DEPARTMENT OF HOMELAND SECURITY

Office of the Secretary

[Docket No. DHS-2014-0051]

Privacy Act of 1974; Department of Homeland Security/United States Coast Guard—018 Exchange System and Morale Well-Being and Recreational Systems Files System of Records

AGENCY: Department of Homeland Security, Privacy Office.

ACTION: Notice of Privacy Act System of Records.

SUMMARY: In accordance with the Privacy Act of 1974, the Department of Homeland Security proposes to update and reissue a current Department of Homeland Security system of records titled, “Department of Homeland Security/United States Coast Guard—018 Exchange System and Morale Well-Being and Recreational Systems Files System of Records.” This system of records allows the Department of Homeland Security/United States Coast Guard to collect and maintain records on the Coast Guard Exchange System and Morale Well-Being and Recreation Program. As a result of a biennial review of this system, Department of Homeland Security/United States Coast Guard is updating this system of records notice to (1) include a new routine use, (2) update the system manager and address, and (3) clarify how the United States Coast Guard stores Exchange System and Morale Well-Being and Recreation system files. This notice also includes non-substantive changes to simplify the formatting and text of the previously published notice updated system. This updated system will be included in the Department of Homeland Security's inventory of record systems.

DATES: Submit comments on or before December 1, 2014. This updated system will be effective December 1, 2014.

ADDRESSES: You may submit comments, identified by docket number DHS-2014-0051 by one of the following methods:

• Federal e-Rulemaking Portal: http://www.regulations.gov. Follow the instructions for submitting comments.

• Fax: (202) 343-4010.

• Mail: Karen L. Neuman, Chief Privacy Officer, Privacy Office, Department of Homeland Security, Washington, DC 20528-0655.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Marilyn Scott-Perez, (202) 475-3515, Privacy Officer, Commandant (CG-61), United States Coast Guard, Mail Stop 7710, Washington, DC 20593-0001. For privacy questions, please contact: Karen L. Neuman, (202) 343-1717, Chief Privacy Officer, Privacy Office, Department of Homeland Security, Washington, DC 20528-0655.

SUPPLEMENTARY INFORMATION:

I. Background

In accordance with the Privacy Act of 1974, 5 U.S.C. 552a, the Department of Homeland Security (DHS)/United States Coast Guard (USCG) proposes to update and reissue a current DHS system of records titled, “DHS/USCG-018 Exchange System (CGES) and Morale Well-Being and Recreation (MWR) System Files System of Records.” The collection and maintenance of this information assists DHS/USCG in meeting its legal obligation to administer the CGES and MWR Program, as recognized in 14 U.S.C. 152. As a result of a biennial review of the system, USCG is updating DHS/USCG-018 Exchange System and Morale Well-Being and Recreation System Files to: (1) Add a new routine use; (2) update the system manager and address; and (3) update how USCG stores CGES and MWR system files. DHS added routine use H to provide notice that DHS may share information with the news media and the public when there is a legitimate public interest in the disclosure of the information, when disclosure is necessary to preserve confidence in the integrity of DHS, or when disclosure is necessary to demonstrate the accountability of DHS's officers, employees, or individuals covered by the system.

Consistent with DHS's information sharing mission, information stored in the DHS/USCG-018 Exchange System and Morale Well-Being and Recreation System Files System of Records may be shared with other DHS components that have a need to know the information to carry out their national security, law enforcement, immigration, intelligence, or other homeland security functions. In addition, DHS/USCG may share information with appropriate federal, state, local, tribal, territorial, foreign, or international government agencies consistent with the routine uses set forth in this system of records notice.

This updated system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. The Privacy Act defines “individual” as a U.S. citizen or lawful permanent resident. As a matter of policy, DHS extends administrative Privacy Act protections to all individuals when systems of records maintain information on U.S. citizens, lawful permanent residents, and visitors.

Below is the description of the DHS/USCG-018 Exchange System and Morale Well-Being and Recreation System Files System of Records.

In accordance with 5 U.S.C. 552a(r), DHS has provided a report of this system of records to the Office of Management and Budget and to Congress.

System of Records

Department of Homeland Security (DHS)/United States Coast Guard (USCG)-018.

System name:

DHS/USCG-018 Exchange System and Morale Well-Being and Recreation System Files System of Records.

Security classification:

Unclassified.

System location:

Records are maintained at the United States Coast Guard Headquarters in Washington, DC and field offices. Records associated with this system are maintained in the Defense Enrollment Eligibility Reporting System and the Core Accounting Suites information technology (IT) systems.

Categories of individuals covered by the system:

Categories of individuals covered by this system include eligible patrons of CGES and MWR, including active duty members and their dependents; members of the reserves and their dependents; military cadets of Services academies and their families; commissioned officers of the Public Health Service and their dependents; commissioned officers of the National Oceanic and Atmospheric Administration on active duty; armed forces retirees from active duty and their dependents; armed forces retirees from the reserves with/without pay and their dependents; honorably discharged veterans with 100 percent service-connected disability and their dependents; Medal of Honor recipients and their dependents; former spouses who have not remarried, but were married to a military member for at least 20 years while the military member was on active duty in the armed forces and their dependents; surviving children of a military member under 21 years old or 23 years old if they are not adopted by new parents and if they are in full-time study; DHS and Department of Defense (DoD) civilian employees and their dependents; other U.S. federal employees and medical personnel under contract to the USCG or DoD, when residing on an installation; military personnel of foreign nations and their dependents when on orders from the U.S. Armed Forces; paid members of the American Red Cross, Young Men's Christian Association, United Services Organization, and other private organizations when assigned to and serving with the U.S. Armed Forces; DHS/DoD contract personnel; Reserve Officers Training Corps cadets, former prisoners of war (POW) and spouses of current POWs, or service members missing in action and their family members; non-appropriated and appropriated funded foreign nationals (this typically happens at DoD installations where foreign nationals are paid for by either appropriated funds or non-appropriated funds); and other civilian members as authorized.

Categories of records in the system:

• Individual name;

• Payroll and personnel records;

• Accounting records for MWR loans;

• Listing of bad checks;

• Job applications;

• Correspondence regarding use of CGES and MWR programs and facilities;

• Membership applications as applicable for the use of any facilities;

• Investigatory reports involving damage to facilities or abuse of privileges to use facilities; and

• Financial accounting documentation supporting sales, accounts payable, accounts receivable as examples for the CGES/MWR program.

Authority for maintenance of the system:

5 U.S.C. 301; 5 U.S.C. 2105; 10 U.S.C. 1146, 1587; 14 U.S.C. 152, 632; the Federal Records Act, 44 U.S.C. 3101.

Purpose(s):

The purpose of this system is to administer programs that provide for the mission readiness and retention of Coast Guard personnel and other authorized users; and to document the approval and conduct of specific contests, shows, entertainment programs, sports activities/competitions, and other MWR-type activities and events sponsored or sanctioned by the Coast Guard. Information is used for registration; reservations; track participation; pass management; report attendance; record sales transactions; maintain billing for individuals; collect payments; collect and report time and attendance of employees; process credit cards, personal checks, and debit cards; create and manage budgets; order and receive supplies and services; provide child care services reports; track inventory; and issue catered event contracts. Information will be used to market and promote similar MWR-type activities conducted by Service's MWR programs, to provide a means of paying, recording, accounting, reporting, and controlling expenditures and merchandise inventories associated with retail operations, rentals, and activities such as bingo games.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the U.S. Attorneys, or other federal agency conducting litigation or proceedings before any court, adjudicative, or administrative body, when it is relevant or necessary to the litigation or proceedings and one of the following is a party to the litigation or proceedings, or has an interest in such litigation or proceedings:

1. DHS or any component thereof;

2. Any employee or former employee of DHS in his/her official capacity;

3. Any employee or former employee of DHS in his/her individual capacity when DOJ or DHS has agreed to represent the employee; or

4. The U.S. or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To the news media and the public, with the approval of the Chief Privacy Officer in consultation with the Office of the General Counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

DHS/USCG stores records in this system electronically or on paper in secure facilities in a locked drawer behind a locked door. The records may be stored on magnetic disc, tape, and digital media.

Retrievability:

Records may be retrieved alphabetically by name.

Safeguards:

DHS/USCG safeguards records in this system according to applicable rules and policies, including all applicable DHS automated systems security and access policies. USCG has imposed strict controls to minimize the risk of compromising the information that is being stored. Access to the computer system containing the records in this system is limited to those individuals who have a need to know the information for the performance of their official duties and who have appropriate clearances or permissions.

Retention and disposal:

Letters of authorization for Coast Guard MWR/CGES activities are destroyed 3 years after disestablishment of the activity. Records and supporting documents for administration of Coast Guard MWR/CGES activities including bank statements, check registers, cash books, cancelled checks, property and stock records, expenditure vouchers, purchase orders, vendor's invoices, payroll and personnel records, daily activity records, guest registration cards, food and beverage cost control sheets, petty cash vouchers, reports and related papers are destroyed 6 years and 3 months after the period covered by the account. Credit cards receipts are destroyed in accordance with retention requirements issued by the card processing agency and ranges from 6 months to 2 years. General Records Schedule 2, item 1-31.

System Manager and address:

Commandant (CG-1), United States Coast Guard, Mail Stop 7907, Washington, DC 20593-0001.

Notification procedure:

Individuals seeking notification of and access to any record contained in this system of records, or seeking to contest its content, may submit a request in writing to the Commandant (CG-611), United States Coast Guard, Mail Stop 7710, Washington, DC 20593-0001. If an individual believes more than one component maintains Privacy Act records concerning him or her, the individual may submit the request to the Chief Privacy Officer and Chief Freedom of Information Act Officer, Department of Homeland Security, 245 Murray Drive SW., Building 410, Mail Stop 0655, Washington, DC 20528.

When seeking records about yourself from this system of records or any other Departmental system of records, your request must conform with the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia, or by calling 1-866-431-0486. In addition, you should:

• Explain why you believe the Department would have information on you;

• Identify which component(s) of the Department you believe may have the information about you;

• Specify when you believe the records would have been created; and

• Provide any other information that will help the FOIA staff determine which DHS component agency may have responsive records;

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Records are obtained from individual record subjects, previous employees, employment agencies, civilian and military investigative reports, and general correspondence.

Exemptions claimed for the system:

None.

Dated: October 17, 2014.
Karen L. Neuman
Chief Privacy Officer, Department of Homeland Security.

[FR Doc. 2014-25907 Filed 10-30-14; 8:45 am]

BILLING CODE 9110-04-P